DEPARTMENT OF DEFENSE

Office of the Secretary

[Transmittal Nos. 14-59]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-59 with attached transmittal, policy justification, and Sensitivity of Technology.

Dated: January 8, 2015.
Aaron Siegel,
Alternate OSD Federal Register Liaison Officer, Department of Defense.

BILLING CODE 5001-06-P

BILLING CODE 5001-06-C

Transmittal No. 14-59

Notice of Proposed Issuance of Letter of Offer Pursuant to Section 36(b)(1) Of the Arms Export Control Act, as amended

(i) Prospective Purchaser: Greece

(ii) Total Estimated Value:

Major Defense Equipment* | $ 57.2 million
Other | $ 92.8 million
TOTAL | $150.0 million.
* as defined in Section 47(6) of the Arms Export Control Act.

(iii) Description and Quantity or Quantities of Articles or Services under Consideration for Purchase: 10 CH-47D Model Chinook Helicopters to include 23 T55-GA-714A Engines (20 installed and, 3 spares), 12 AN/AAR-57 Common Missile Warning System (10 installed and 2 spares), 12 AN/ARC-220 High Frequency (HF) Radios, 12 AN/ARC-186 Very High Frequency (VHF) AM/FM Radios, 12 AN/ARC-164 Ultra High Frequency (UHF)-AM, 12 AN/ARN 123 VOR ILS Marker Beacons, 12 AN/ARN-89 or AN/ARN-149 Direction Finder Sets, 12 AN/ASN-128 Doppler/Global Positioning System Navigation Sets, 12 AN/ARC-201D or AN/ARC-201E VHF FM Homing Radios, 12 AN/APX-118 Transponders, 3 AN/APX-118A Transponders, 12 AN/APR-39A(V)1 Radar Signal Detecting Sets, mission equipment, communication and navigation equipment, Maintenance Work Orders/Engineering Change Proposals (MWO/ECPs), aircraft hardware and software support, repair and return, spare and repair parts, publications and technical documentation, support equipment, minor modifications, personnel training and training equipment, U.S. government and contractor technical and engineering support services, and other related elements of logistics and program support.

(iv) Military Department: Army (XOP)

(v) Prior Related Cases: None

(vi) Sales Commission, Fee, etc., Paid, offered, or Agreed to be paid: None

(vii) Sensitivity of Technology Contained in the Defense Article or Defense Services Proposed to be Sold: See Attached Annex

(viii) Date Report Delivered to Congress: 11 Dec 14

POLICY JUSTIFICATION

Greece—CH-47D Chinook Helicopters

The Government of Greece has requested a possible sale of 10 CH-47D Model Chinook Helicopters to include 23 T55-GA-714A Engines (20 installed and, 3 spares), 12 AN/AAR-57 Common Missile Warning System (10 installed and 2 spares), 12 AN/ARC-220 High Frequency (HF) Radios, 12 AN/ARC-186 Very High Frequency (VHF) AM/FM Radios, 12 AN/ARC-164 Ultra High Frequency (UHF)-AM, 12 AN/ARN 123 VOR ILS Marker Beacons, 12 AN/ARN-89 or AN/ARN-149 Direction Finder Sets, 12 AN/ASN-128 Doppler/Global Positioning System Navigation Sets, 12 AN/ARC-201D or AN/ARC-201E VHF FM Homing Radios, 12 AN/APX-118 Transponders, 3 AN/APX-118A Transponders, 12 AN/APR-39A(V)1 Radar Signal Detecting Sets, mission equipment, communication and navigation equipment, Maintenance Work Orders/Engineering Change Proposals (MWO/ECPs), aircraft hardware and software support, repair and return, spare and repair parts, publications and technical documentation, support equipment, minor modifications, personnel training and training equipment, U.S. government and contractor technical and engineering support services, and other related elements of logistics and program support. The estimated cost is $150 million.

This proposed sale of these helicopters and support will contribute to the foreign policy and national security of the United States by helping to improve the security of a NATO ally.

This sale will contribute to both the United States' and Greece's defense and security goal of greater stability in the Balkans and the Levant regions by enhancing a critical helicopter lift capability. Additionally, this sale will facilitate greater interoperability of Greek systems both bilaterally and within NATO. Greece, which already operates CH-47s, will have no difficulty absorbing these helicopters into its armed forces.

The proposed sale of these helicopters and support will not alter the basic military balance in the region.

There is no principal contractor as the systems will be coming from U.S. Army stock. There are no known offset agreements proposed in connection with this potential sale.

Implementation of this proposed sale will require the assignment of U.S. Government or contractor representatives to Greece at some point in future.

There will be no adverse impact on U.S. defense readiness as a result of this proposed sale.

Transmittal No. 14-59

Notice of Proposed Issuance of Letter of Offer Pursuant to Section 36(b)(1) Of the Arms Export Control Act, as amended

Annex

Item No. vii

(vii) Sensitivity of Technology:

1. Identification and security classification of classified equipment, major components, subsystems, software, and technical data (performance, maintenance, operational (R&M, etc), documentation, training devices, and services to be conveyed with the purposed sale are classified up to Secret. The CH-47D is a medium lift aircraft, remanufactured from CH-47A, B, and C aircraft. The avionic system in the CH-47D helicopter consists of the following communications equipment: HF (AN/ARC-220), VHF AM/FM (AN/ARC-186) and UHF-AM (AN/ARC 164). The navigation equipment includes Automatic Direction Finder (AN/ARN-89 or 149), VOR ILS Marker Beacon (AN/ARN 123), Doppler/GPS (AN/ASN 128) Navigation System, and VHF FM Homing (AN/ARC-201D) provided through the FM communications radio. Transponder equipment (AN/APX-118 and AN/APX-118A) consists of an IFF receiver with inputs from the barometric altimeter for altitude encoding. Mission equipment consists of the radar signal detecting set, (AN/APR-39A (V) 1) and the Common Missile Warning System (CMWS) AN/AAR-57.

2. If a technologically advanced adversary were to obtain knowledge of the specific hardware and software elements, the information could be used to develop countermeasures that might reduce weapon system effectiveness or be used in the development of a system with similar advanced capabilities.

3. A determination has been made that the recipient country can provide the same degree of protection for the sensitive technology being released as the U.S. Government. This sale is necessary in furtherance of the US foreign policy and national security objectives outlined in the Policy Justification.

4. All defense articles and services listed in this transmittal have been authorized for release and export to the Government of Greece.

[FR Doc. 2015-00371 Filed 1-13-15; 8:45 am]

BILLING CODE 5001-06-P